DEPARTMENT OF HEALTH AND HUMAN SERVICES

Centers for Medicare & Medicaid Services

42 CFR Chapter IV

[CMS-6012-N6]

RIN 0938-AL13

Medicare Program; Negotiated Rulemaking Committee on Special Payment Provisions and Requirements for Prosthetics and Certain Custom-Fabricated Orthotics; Meeting Announcement

AGENCY: Centers for Medicare & Medicaid Services (CMS), HHS.

ACTION: Notice of meeting.

SUMMARY: In accordance with section 10(a) of the Federal Advisory Committee Act, this notice announces an additional public meeting of the Negotiated Rulemaking Committee on Special Payment Provisions and Requirements for Prosthetics and Certain Custom-Fabricated Orthotics. The Committee was mandated by section 427 of the Medicare, Medicaid, and SCHIP Benefits Improvement and Protection Act of 2000 (BIPA).

DATES: The final negotiated rulemaking committee meeting will be held July 14, 2003 from 8 a.m. to 5:30 p.m. e.s.t.

This meeting is open to the public. If the Committee decides to hold another meeting, that meeting will be announced in the Federal Register.

ADDRESSES: The Committee meeting will be held in the multipurpose room at the Centers for Medicare and Medicaid Services, 7500 Security Blvd., Baltimore, Maryland 21244.

Meeting Registration: Because this meeting will be located on Federal property, for security reasons, all individuals must register to attend. Any persons wishing to attend this meeting must e-mail TLinkowich@CMS.HHS.Gov or call Theresa Linkowich at (410) 786-9249 to register by close of business on July 10, 2003. Attendees must show valid photographic identification to the Federal Protective Service or Guard Service personnel before they will be permitted to enter the building. Individuals who have not registered in advance will not be allowed to enter the building to attend the meeting. Seating capacity is limited to the first 250 registrants.

FOR FURTHER INFORMATION CONTACT: Theresa Linkowich, (410) 786-9249 (General inquiries concerning prosthetics and custom-fabricated orthotics), Centers for Medicare & Medicaid Services (CMS), 7500 Security Blvd, Baltimore MD 21244; or

Lynn Sylvester, 202-606-9140, Federal Mediation and Conciliation Services, 2100 K Street, NW., Washington, DC 20427; or Ira Lobel, 518-431-0130, Federal Mediation and Conciliation Services, 1 Clinton Square, Room 952, Albany, NY 12207

SUPPLEMENTARY INFORMATION: We published a notice in the Federal Register on July 26, 2002 (67 FR 48839-48840) announcing the establishment of the negotiated rulemaking committee to advise us on developing a proposed rule that would establish special payment provisions and requirements for suppliers of prosthetics and certain custom-fabricated orthotics under the Medicare program. The notice also announced dates for the Committee's first two meetings on October 1-3, 2002 and October 29-31, 2002. Subsequent meetings were announced in the Federal Register at 67 FR 70358 (November 22, 2002), 68 FR 3482 (January 24, 2003), and 68 FR 15139 (March 28, 2003).

Through face-to-face negotiations, the Committee hopes to reach consensus on the substance of the proposed rule. If consensus is reached, the Committee will transmit to us a report containing required information for developing a proposed rule and we will use the report as the basis for the proposed rule. The Committee is responsible for identifying the key issues, gauging their importance, analyzing the information necessary to resolve the issues, arriving at a consensus, and recommending the text and content of the proposed regulation. Detailed information is available on the CMS Internet Home Page: http://cms.hhs.gov/faca/prosthetic/ or by calling the Federal Advisory Committee Hotline at (410) 786-9379. Out-of-town callers can reach the Hotline by calling toll free at 1-877-449-5659.

The Agenda for the July 14 meeting will be as follows:

1. Review of the June 2 and 3 minutes.

2. Final discussion of statutory terms to be further defined by regulation.

3. Final discussion on L codes.

4. Final discussion on qualifications as defined in the statute.

5. Draft, revise, and sign the Committee's report containing the negotiated provisions of the proposed rule.

Public Participation

All interested parties are invited to attend these public meetings, but attendance is limited to the space available. Advance registration is required. Seating will be available on a first-come first'served basis. Individuals requiring sign language interpretation for the hearing impaired or other special accommodations should contact Theresa Linkowich, tlinkowich@cms.hhs.gov or call (410) 786-9249 at least 10 days before the meeting. The Committee has the authority to decide to what extent oral presentations by members of the public may be permitted at the meeting. Oral presentations will be limited to statements of fact and views, and shall not include any questioning of the Committee members or other participants unless the facilitators have specifically approved these questions. The number of oral presentations may be limited by the time available.

Interested parties can file statements with the Committee. Mail written statements to the following address: Federal Mediation and Conciliation Services, 2100 K Street, NW., Washington, DC 20427, Attention: Lynn Sylvester, or call Lynn Sylvester at (202) 606-9140.

Additional Meetings

The Committee does not anticipate the need for additional meetings. If additional meetings are necessary, we will publish notice(s) of the future meetings in the Federal Register. All future meetings will be open to the public.

Authority: Federal Advisory Committee Act (5 U.S.C. App. 2)

(Catalog of Federal Domestic Assistance Program No. 93.774, Medicare—Supplementary Medical Insurance Program)
Dated: June 19, 2003.
Thomas A. Scully,
Administrator, Centers for Medicare & Medicaid Services.

[FR Doc. 03-16053 Filed 6-26-03; 8:45 am]

BILLING CODE 4120-01-P